DEPARTMENT OF HEALTH AND HUMAN SERVICES

Centers for Medicare & Medicaid Services

42 CFR Parts 412 and 413

[CMS-1529-N]

RIN 0938-AO30

Medicare Program; Hospital Direct and Indirect Graduate Medical Education Policy Changes; Notice

AGENCY: Centers for Medicare & Medicaid Services (CMS), HHS.

ACTION: Final rule; clarification.

SUMMARY: This notice clarifies the availability of certain physician salary proxy data for purposes of the hospital direct and indirect graduate medical education policy adopted in the “Medicare Program; Prospective Payment System for Long-Term Care Hospitals RY 2008: Annual Payment Rate Updates, and Policy Changes; and Hospital Direct and Indirect Graduate Medical Education Policy Changes” final rule that appeared in the May 11, 2007 Federal Register.

EFFECTIVE DATE: This notice is effective on July 1, 2007.

FOR FURTHER INFORMATION CONTACT: Tzvi Hefter, (410) 786-4487 (General information). Miechal Lefkowitz, (410) 786-5316 (Graduate Medical Education payments). Renate Rockwell, (410) 786-4645 (Graduate Medical Education payments).

SUPPLEMENTARY INFORMATION:

I. Background

In FR Doc. 07-2206 (72 FR 26870), there was an erroneous statement of fact relating to the GME policy adopted in the final rule. In light of the error, this notice serves to clarify the availability of certain salary proxy data that can be used for purposes of the hospital direct and indirect graduate medical education policy adopted in the final rule.

II. Provisions of the Notice

In the final rule that appeared in the May 11, 2007 Federal Register (72 FR 26958), we responded erroneously to the following comment, “One commenter stated that CMS should use average compensation figures for dental faculty based on specialty and regional variation. The commenter stated that the commenter would be happy to work with CMS to develop compensation figures for dental programs.” We responded, “The AMGA [American Medical Group Association] data does not apply to dental faculty, at this point we are unaware of a comparable data source for dental faculty salaries. We will work with the commenter to determine whether we can develop proxy salary amounts for supervisory dentists.” After the final rule was issued, we were made aware that the AMGA data, in fact, do apply to dentists and podiatrists. Because AMGA data are available for the dental and podiatry specialties, the AMGA 2006 Medical Group Compensation and Financial Survey data can be used as the salary proxy for both dentistry and podiatry in accordance with the policies adopted in the final rule. We will also correct our posting of 2006 AMGA salary data at the following Web site address to include the median salary data for both dentistry and podiatry: http://www.cms.hhs.gov/AcuteInpatientPPS/Downloads/Specialty_Table_050107.pdf.

Authority

(Catalog of Federal Domestic Assistance Program No. 93.773, Medicare—Hospital Insurance; and Program No. 93.774, Medicare—Supplementary Medical Insurance Program).

Dated: June 29, 2007.
Leslie V. Norwalk,
Acting Administrator, Centers for Medicare & Medicaid Services.

[FR Doc. 07-3260 Filed 6-29-07; 3:21 pm]

BILLING CODE 4120-01-P